DEPARTMENT OF TRANSPORTATION

Federal Aviation Administration

14 CFR Part 93

[Docket No. FAA-2008-0221]

Change of Newark Liberty International Airport (EWR) Designation; Notification of Availability of Final CATEX Declaration and Supporting Material

AGENCY: Federal Aviation Administration (FAA), DOT.

ACTION: Notification of availability.

SUMMARY: This action announces the placement in the docket of the final documented categorical exclusion (the signed CATEX declaration and final Attachment A: Environmental Review of Proposed Change of Operating Authorization Requirement at Newark Liberty International Airport) for the redesignation of Newark Liberty International Airport (EWR) as a Level 2 schedule-facilitated airport.

DATES: May 24, 2016.

FOR FURTHER INFORMATION CONTACT: For technical questions concerning this action, contact Susan Pfingstler, System Operations Services, Air Traffic Organization, Federal Aviation Administration, 600 Independence Avenue SW., Washington, DC 20591; telephone (202) 267-6462; email susan.pfingstler@faa.gov.

SUPPLEMENTARY INFORMATION: On April 6, 2016, the FAA published the “Change of Newark Liberty International Airport (EWR) Designation” document in order to redesignate Newark Liberty International Airport as a Level 2 schedule-facilitated airport under the International Air Transport Association Worldwide Slot Guidelines effective for the winter 2016 scheduling season, which begins on October 30, 2016.¹

¹ 81 FR 19861.

On April 5, 2016, the FAA posted a copy of a draft of Env Rev Attach A in the docket associated with the April 6, 2016 document. The FAA has corrected this action by posting the final CATEX documents (the signed CATEX declaration and final Attachment A: Environmental Review of Proposed Change of Operating Authorization Requirement at Newark Liberty International Airport) to the docket.

Issued in Washington, DC, on May 18, 2016.
Lorelei Peter,
Assistant Chief Counsel for Regulations.

[FR Doc. 2016-12252 Filed 5-23-16; 8:45 am]

BILLING CODE 4910-13-P